DEPARTMENT OF COMMERCE

Foreign-Trade Zones Board

[B-87-2016]

Foreign-Trade Zone (FTZ) 87—Lake Charles, Louisiana, Authorization of Production Activity, Westlake Chemical Corporation, Subzone 87F, (Polyethylene and Styrene), Sulphur, Louisiana

On December 16, 2016, Westlake Chemical Corporation submitted a notification of proposed production activity to the Foreign-Trade Zones (FTZ) Board for its facility within Subzone 87F, in Sulphur, Louisiana.

The notification was processed in accordance with the regulations of the FTZ Board (15 CFR part 400), including notice in the Federal Register inviting public comment (82 FR 1316, January 5, 2017). The FTZ Board has determined that no further review of the activity is warranted at this time. The production activity described in the notification is authorized, subject to the FTZ Act and the FTZ Board's regulations, including Section 400.14.

Dated: April 17, 2017.
Andrew McGilvray,
Executive Secretary.

[FR Doc. 2017-08319 Filed 4-24-17; 8:45 am]

BILLING CODE 3510-DS-P